DEPARTMENT OF HOUSING AND URBAN DEVELOPMENT

[Docket No. FR-4950-FA-22, 23, and 24]

Notice of Funding Awards Resident Opportunity and Self-Sufficiency and Neighborhood Networks Programs for Fiscal Year 2005

AGENCY: Office of Public and Indian Housing, HUD.

ACTION: Announcement of Funding Awards.

SUMMARY: In accordance with section 102(a)(4)(C) of the Department of Housing and Urban Development Reform Act of 1989, this announcement notifies the public of funding decisions made by the Department for funding under the Fiscal Year (FY) 2005 Notice of Funding Availability (NOFA) for the Resident Opportunity and Self Sufficiency Programs for FY2005. This announcement contains the consolidated names and addresses of those award recipients selected for each state.

FOR FURTHER INFORMATION CONTACT: For questions concerning the FY2005 Resident Opportunities and Self Sufficiency (ROSS) awards, contact the Office of Public and Indian Housing's Grants Management Center, Director, Iredia Hutchinson, Department of Housing and Urban Development, Washington, DC, telephone (202) 358-0273. For the hearing or speech impaired, these numbers may be accessed via TTY (text telephone) by calling the Federal Information Relay Service at (800) 877-8339. (Other than the “800” TTY number, these telephone numbers are not toll-free.)

SUPPLEMENTARY INFORMATION: The authority for $104.9 million in budget authority for use in the housing of elderly and non-elderly and disabled families is found in the Departments of Veteran Affairs and Housing and Urban Development and Independent Agencies Appropriations Act, FY2005 (Pub. L. 108). The allocation of housing assistance budget authority is pursuant to the provisions of 24 CFR part 791, subpart D, implementing section 213(d) of the Housing and Community Development Act of 1974, as amended.

These programs are intended to provide funding under the ROSS programs, to link services to public housing residents by providing grants for supportive service, resident empowerment activities, and activities that assist residents in becoming economically self-sufficient. The FY2005 awards announced in this notice were selected for funding as announced in a Federal Register NOFA published on March 21, 2005 (70 FR 14054). Applications were scored based on the selection criteria in that notice and funding selections were made based on the rating and ranking of applications within each state.

In accordance with section 102(a)(4)(C) of the Department of Housing and Urban Development Reform Act of 1989 (Pub. L. 101-235, approved December 15, 1989), the Department is publishing the names, addresses, and amounts of the awards under the Resident Services Delivery Models—Elderly and Persons with Disabilities, Resident Services Delivery Models—Family, Homeownership Supportive Services, Public Housing Family Self Sufficiency and Public Housing Neighborhood Networks competitions.

Dated: December 10, 2007.
Orlando J. Cabrera,
Assistant Secretary for Public and Indian Housing.

APPENDIX A.—FISCAL YEAR 2005 FUNDING AWARDS FOR THE RESIDENT OPPORTUNITIES AND SELF SUFFICIENCY AND NEIGHBORHOOD NETWORKS PROGRAMS
Recipient | Address | City | State | Zip Code | Amount
Public Housing Family Self-Sufficiency
Housing Authority of the Birmingham District | 1826-3rd Avenue South | Birmingham | AL | 35233 | $65,000
Tuscaloosa Housing Authority | P.O. Box 2281 | Tuscaloosa | AL | 35403 | 36,466
Mobile Housing Board | 151 South Claiborne Street | Mobile | AL | 36602 | 58,438
Housing Authority of the City of Prichard | 4559 St. Stephens Road | Eight Mile | AL | 36613 | 44,748
The Housing Authority of the City of Huntsville, Alabama | Post Office Box 486 200 Washington Street | Huntsville | AL | 35804-0486 | 65,000
Lonoke County Housing Authority | 617 North Greenlaw Street | Carlisle | AR | 72024 | 33,000
Housing Authority of the City of North Little Rock | 2201 Division | North Little Rock | AR | 72114 | 36,099
City of Phoenix Housing Department | 200 West Washington, 4th Floor | Phoenix | AZ | 85003 | 65,000
Housing Authority of Maricopa County | 2024 North 7th Street, Ste 101 | Phoenix | AZ | 85006 | 44,760
Housing Authority of the City of Yuma | 420 South Madison Avenue | Yuma | AZ | 85364 | 53,877
San Diego Housing Commission | 1625 Newton Avenue | San Diego | CA | 92113 | 130,000
Housing Authority of the City of Oxnard | 435 South D Street | Oxnard | CA | 93030 | 65,000
Housing Authority City of Santa Barbara | 808 Laguna Street | Santa Barbara | CA | 93101 | 65,000
Housing Authority of the County of Kern | 601-24th Street | Bakersfield | CA | 93301 | 46,228
Housing Authority of the City of San Luis Obispo | 487 Leff Street | San Luis Obispo | CA | 93401 | 47,117
The Housing Authority of the City of Madera | 205 North G Street | Madera | CA | 93637 | 46,900
Housing Authority of the County of Marin | 4020 Civic Center Drive | San Rafael | CA | 94903 | 60,084
Housing Authority of the County of San Joaquin | P.O. Box 447 | Stockton | CA | 95201 | 155,844
Housing Authority of the County of San Bernardino | 715 East Brier Drive | San Bernardino | CA | 92408-2841 | 65,000
Housing Authority of the City of Oakland | 1619 Harrison Street | Oakland | CA | 94612-3307 | 63,000
Housing Authority of the County of Santa Cruz | 2931 Mission Street | Santa Cruz | CA | 95060-5709 | 65,000
Housing Authority of the City & County of Denver | 777 Grant Street | Denver | CO | 80203 | 213,245
Fort Collins Housing Authority | 1715 West Mountain Avenue | Fort Collins | CO | 80524 | 56,434
Meriden Housing Authority | 22 Church Street | Meriden | CT | 06451 | 50,500
The Housing Authority of the Town of Greenwich | 249 Milbank Avenue | Greenwich | CT | 06830 | 65,000
Housing Authority of the City of New Haven | P.O. Box 1912 360 Orange Street | New Haven | CT | 06509-1912 | 53,899
Jacksonville Housing Authority | 1300 Broad Street | Jacksonville | FL | 32202 | 42,432
Hialeah Housing Authority | 75 East 6th Street | Hialeah | FL | 33010 | 35,801
West Palm Beach Housing Authority | 1715 Division Avenue | West Palm Beach | FL | 33407 | 34,683
Housing Authority of the City of Tampa | 1514 Union Street | Tampa | FL | 33607 | 58,309
Lakeland Housing Authority | 430 Hartsell Avenue | Lakeland | FL | 33815 | 44,928
Housing Authority of the City of Fort Myers | 4224 Michigan Avenue | Fort Myers | FL | 33916 | 51,836
Northwest Georgia Housing Authority | 800 North Fifth Avenue | Rome | GA | 30162 | 35,152
Housing Authority of the City of Albany, GA | P.O. Box 485 521 Pine Avenue | Albany | GA | 31702 | 26,600
Macon Housing Authority | P.O. Box 4928 2015 Felton Avenue | Macon | GA | 31208-4928 | 56,301
Housing and Community Development Corporation of Hawaii | 677 Queen Street, Suite 300 | Honolulu | HI | 96813 | 43,700
Eastern Iowa Regional Housing Authority | 3999 Pennsylvania Avenue, Suite 200 | Dubuque | IA | 52002 | 61,083
Des Moines Municipal Housing Authority | 100 East Euclid, Suite 101 | Des Moines | IA | 50313-4534 | 27,953
Nampa Housing Authority | 1703 3rd Street, North | Nampa | ID | 83687 | 37,871
Chicago Housing Authority | 626 West Jackson | Chicago | IL | 60661 | 58,500
Rockford Housing Authority | 223 South Winnebago Street | Rockford | IL | 61102 | 59,489
Housing Authority of the City of Rock Island, IL | 227 21st Street | Rock Island | IL | 61201 | 65,000
Housing Authority of Henry County | 100 Fairview Junction | Kewanee | IL | 61443 | 44,537
Housing Authority of Champaign County | 205 West Park Avenue | Champaign | IL | 61820 | 32,512
Macoupin County Housing Authority | 760 Anderson Street | Carlinville | IL | 62626 | 39,000
The Housing Authority of the City of New Albany, Indiana | P.O. Box 11 500 Scribner Drive | New Albany | IN | 47150 | 113,000
Housing Authority of Delaware County, Indiana | 2401 South Haddix Avenue | Muncie | IN | 47302-7547 | 46,908
Terre Haute Housing Authority | P.O. Box 3086 One Dreiser Square | Terre Haute | IN | 47803-0086 | 56,466
Lawrence-Douglas County Housing Authority | 1600 Haskell Avenue | Lawrence | KS | 66044 | 55,348
Louisville Metro Housing Authority | 420 South Eighth Street | Louisville | KY | 40203 | 122,064
Housing Authority of Bowling Green | 247 Double Springs Road | Bowling Green | KY | 42101 | 45,000
Housing Authority of Glasgow | 111 Bunche Avenue | Glasgow | KY | 42141 | 33,000
Housing Authority of the City of Monroe | 300 Harrison Street | Monroe | LA | 71201-7441 | 20,798
Somerville Housing Authority | 30 Memorial Road | Somerville | MA | 02145 | 65,000
Holyoke Housing Authority | 475 Maple Street | Holyoke | MA | 01040-0000 | 55,607
St. Mary's County Housing Authority | P.O. Box 653 | Leonardtown | MD | 20650 | 50,419
Rockville Housing Enterprises | 621 A Southlawn Lane | Rockville | MD | 20850 | 60,852
Housing Opportunities Commission | 10400 Detrick Avenue | Kensington | MD | 20895 | 121,753
Housing Authority of Baltimore City | 417 East Fayette Street, Room 265 | Baltimore | MD | 21202 | 63,000
Housing Authority of the City of Frederick | 209 Madison Street | Frederick | MD | 21701 | 12,551
Housing Authority of the City of Hagerstown | 35 West Baltimore Street | Hagerstown | MD | 21740 | 94,291
Housing Authority of Washington County | P.O. Box 2944 44 North Potomac Street | Hagerstown | MD | 21740-2944 | 4,144
Portland Housing Authority | 14 Baxter Boulevard | Portland | ME | 04101 | 16,524
Housing Authority of the City of Brewer | 15 Colonial Circle, Suite 1 | Brewer | ME | 04412 | 45,574
Lewiston Housing Authority | 1 College Street | Lewiston | ME | 04240-7118 | 15,398
Grand Rapids Housing Commission | 1420 Fuller Avenue SE | Grand Rapids | MI | 49507 | 63,600
Saginaw Housing Commission | P.O. Box 3225 1803 Norman Street | Saginaw | MI | 48605-3225 | 45,427
Washington County Housing and Redevelopment Authority | 321 Broadway Avenue | Saint Paul Park | MN | 55071 | 25,229
Housing & Redevelopment Authority of Virginia MN | 442 Pine Mill Court | Virginia | MN | 55792-3097 | 51,360
St. Louis Housing Authority | 4100 Lindell Boulevard | St. Louis | MO | 63108 | 63,000
Housing Authority of Kansas City, Missouri | 301 East Armour | Kansas | MO | 64111 | 44,800
Housing Authority of the City of Jackson, Mississippi | 2747 Livingston Road | Jackson | MS | 39213 | 60,760
The Housing Authority of the City of Meridian | 2425 E Street | Meridian | MS | 39301 | 46,016
The Housing Authority of the City of Biloxi | P.O. Box 447 330 Benachi Avenue | Biloxi | MS | 39533-0447 | 40,400
Housing Authority of the City of High Point | 500 East Russell Avenue | High Point | NC | 27261 | 58,402
Lexington Housing Authority | P.O. Box 1085 1 Jamaica Drive | Lexington | NC | 27292 | 50,829
Greensboro Housing Authority | P.O. Box 21287 450 North Church Street | Greensboro | NC | 27420 | 56,622
Greenville Housing Authority | 1103 Broad Street | Greenville | NC | 27835 | 52,078
Gastonia Housing Authority | P.O. Box 2398 340 West Long Avenue | Gastonia | NC | 28053 | 46,718
Housing Authority of the City of Wilmington, NC | 1524 South 16th Street | Wilmington | NC | 28401 | 90,703
Hickory Public Housing Authority | P.O. Box 2927 | Hickory | NC | 28603 | 44,489
Statesville Housing Authority | 110 W. Allison Street | Statesville | NC | 28677 | 63,712
City of Concord Housing Department | P.O. Box 308 283 Harold Goodman Circle | Concord | NC | 28026-0308 | 41,895
Housing Authority of the City of Omaha | 540 South 27 Street | Omaha | NE | 68105 | 38,591
Housing Authority of the City of Lincoln | 5700 R Street | Lincoln | NE | 68505 | 60,913
Kearney Housing Authority | 2715 Avenue I OFC | Kearney | NE | 68847 | 45,731
Keene Housing Authority | 105 Castle Street | Keene | NH | 03431 | 44,209
Long Branch Housing Authority | P.O. Box 337 Garfield Court | Long Branch | NJ | 07740 | 65,000
Housing Authority of the City of Camden | 1300 Admiral Wilson Boulevard | Camden | NJ | 08102 | 44,432
Millville Housing Authority | P.O. Box 803 309 Buck Street | Millville | NJ | 08332 | 21,720
Atlantic City Housing Authority | P.O. Box 1258 227 North Vermont Avenue, 17th Floor | Atlantic City | NJ | 08401 | 50,089
City of Albuquerque Housing Services | 1840 University Boulevard South East | Albuquerque | NM | 87106 | 65,000
Santa Fe Civic Housing Authority, Inc. | 664 Alta Vista | Santa Fe | NM | 87505 | 65,000
Truth or Consequences Housing Authority | 108 Cedar Street | Truth or Consequences | NM | 87901 | 9,385
Housing Authority of the City of Las Vegas | 340 North 11th Street | Las Vegas | NV | 89101 | 125,866
Housing Authority of the City of Reno | 1525 East 9th Street | Reno | NV | 89512-3012 | 25,301
New Rochelle Municipal Housing Authority | 50 Sickles Avenue | New Rochelle | NY | 10801 | 63,000
Cohoes Housing Authority | 100 Manor Sites | Cohoes | NY | 12047 | 13,562
Troy Housing Authority | 1 Eddy's Lane | Troy | NY | 12180 | 53,478
Schenectady Municipal Housing Authority | 375 Broadway | Schenectady | NY | 12305 | 49,342
Municipal Housing Authority of the City of Utica, New York | 509 Second Street | Utica | NY | 13501 | 65,000
Buffalo Municipal Housing Authority | 300 Perry Street | Buffalo | NY | 14204 | 61,212
Geneva Housing Authority | P.O. Box 153 41 Lewis Street | Geneva | NY | 14456 | 57,747
Lucas Metropolitan Housing Authority | 435 Nebraska Avenue | Toledo | OH | 43602 | 48,966
Zanesville Metropolitan Housing Authority | 407 Pershing Road | Zanesville | OH | 43701 | 46,891
Morgan Metropolitan Housing Authority | 4580 N. Street, Route 376 | McConnelsville | OH | 43756 | 44,289
Lorain Metropolitan Housing Authority | 1600 Kansas Avenue | Lorain | OH | 44052 | 35,532
Akron Metropolitan Housing Authority | 100 West Cedar Street | Akron | OH | 44307 | 100,203
Trumbull Metropolitan Housing Authority | 4076 Youngstown Road, South East, Suite 101 | Warren | OH | 44484 | 43,200
Butler Metropolitan Housing Authority | 4110 Hamilton-Middletown Road | Hamilton | OH | 45011 | 37,522
Chillicothe Metropolitan Housing Authority | 178 West Fourth Street | Chillicothe | OH | 45601 | 21,391
Allen Metropolitan Housing Authority | 600 South Main | Lima | OH | 45804 | 37,170
Housing Authority of the City of Muskogee | 220 North 40th Street | Muskogee | OK | 74401 | 40,000
Housing Authority of the City of Tulsa | P.O. Box 6369 415 East Independence Street | Tulsa | OK | 74148-0369 | 31,513
Housing Authority of the City of Shawnee, OK | P.O. Box 3427 601 West 7th Street | Shawnee | OK | 74802-3427 | 89,232
Housing Authority of Portland | 135 Southwest Ash Street | Portland | OR | 97204 | 191,699
Housing Authority & Urban Renewal Agency of Polk County | P.O. Box 467 204 South West Walnut Avenue | Dallas | OR | 97338 | 13,971
Housing and Community Services Agency of Lane County | 177 Day Island Road | Eugene | OR | 97401 | 65,000
Housing Authority of Jackson County | 2251 Table Rock Road | Medford | OR | 97501 | 33,402
Housing Authority of the City of Salem | P.O. Box 808 | Salem | OR | 97308-0808 | 62,311
Allegheny County Housing Authority | 625 Stanwix Street, 12th Floor | Pittsburgh | PA | 15222 | 62,430
Housing Authority of the City of York | P.O. Box 31 31 South Broad Street | York | PA | 17403 | 40,229
Housing Authority of Northumberland County | 50 Mahoning Street | Milton | PA | 17847 | 44,728
Philadelphia Housing Authority | 12 South 23rd Street | Philadelphia | PA | 19103 | 65,000
Westmoreland County Housing Authority | RD #6 Box 223 South Greengate Road | Greensburg | PA | 15601-9308 | 37,618
Woonsocket Housing Authority | 679 Social Street | Woonsocket | RI | 02895 | 91,400
Housing Authority of the City of Providence | 100 Broad Street | Providence | RI | 02903 | 63,000
Housing Authority of the City of Columbia, SC | 1917 Harden Street | Columbia | SC | 29204 | 38,115
The Housing Authority of the City of Spartanburg | 325 South Church Street | Spartanburg | SC | 29306 | 47,250
The Housing Authority of the City of Greenville, SC | 511 Augusta Street | Greenville | SC | 29605 | 31,429
Metropolitan Development & Housing Agency | 701 South 6th Street | Nashville | TN | 37206 | 120,126
Jackson Housing Authority | 125 Preston Street | Jackson | TN | 38301 | 83,698
The Housing Authority of The City of Dallas, Texas (DHA) | 3939 North Hampton Road | Dallas | TX | 75212 | 44,642
Housing Authority of the City of Houston | 2640 Fountain View Street | Houston | TX | 77057 | 49,504
Housing Authority of the City of Beaumont | 1890 Laurel | Beaumont | TX | 77701 | 26,957
The Housing Authority of the City of San Antonio | 818 South Flores | San Antonio | TX | 78204 | 293,326
City of San Marcos Housing Authority | 1201 Thorpe Lane | San Marcos | TX | 78666 | 36,292
Housing Authority of the City of Austin | 1640 B. East 2nd Street | Austin | TX | 78702 | 94,360
Housing Authority of the City of Waco | P.O. Box 978 4400 Cobbs Drive | Waco | TX | 76703-0978 | 47,773
Housing Authority of Salt Lake City | 1776 South West Temple | Salt Lake City | UT | 84115 | 51,457
Housing Authority of the County of Salt Lake | 3595 South Main Street | Salt Lake City | UT | 84115 | 56,194
Fairfax Co. Redev. and Housing Authority | 3700 Pender Drive, Suite 300 | Fairfax | VA | 22030 | 63,000
Harrisonburg Redevelopment and Housing Authority | P.O. Box 1071 | Harrisonburg | VA | 22803 | 17,146
Chesapeake RHA | 1468 South Military Highway | Chesapeake | VA | 23320 | 46,513
Norfolk Redevelopment and Housing Authority | 201 Granby Street | Norfolk | VA | 23510 | 130,000
Portsmouth Redevelopment and Housing Authority | P.O. Box 1098 801 Water Street | Portsmouth | VA | 23705 | 47,738
Petersburg Redevelopment and Housing Authority | 128 South Sycamore Street | Petersburg | VA | 23804 | 44,733
Roanoke Redevelopment and Housing Authority | 2624 Salem Turnpike, Northwest | Roanoke | VA | 24017 | 108,240
Bristol Redevelopment and Housing Authority | 809 Edmond Street | Bristol | VA | 24201 | 37,177
Danville Redevelopment and Housing Authority | 651 Cardinal Place | Danville | VA | 24541 | 42,000
Richmond Redevelopment Housing Authority | P.O. Box 26887 901 Chamberlayne Parkway | Richmond | VA | 23261-6887 | 65,000
Newport News Redevelopment and Housing Authority | P.O. Box 797 227 27th Street | Newport News | VA | 23607-0797 | 44,788
Housing Authority of the City of Bremerton | 110 Russell Road | Bremerton | WA | 98312 | 46,750
Housing Authority of the City of Tacoma | 902 South L Street | Tacoma | WA | 98405 | 52,067
Seattle Housing Authority | P.O. Box 19028 120 6th Avenue North | Seattle | WA | 98109-1028 | 53,945
City of Waukesha Housing Authority | 120 Corrina Boulevard | Waukesha | WI | 53186 | 57,200
Housing Authority of the City of Milwaukee | 809 North Broadway | Milwaukee | WI | 53202 | 65,000
City of Green Bay Housing Authority c/o Integrated Community Services, Inc. | 201 West Walnut Street | Green Bay | WI | 54303 | 43,753
Housing Authority of the City of Charleston | 911 MIchael Avenue | Charleston | WV | 25312 | 40,773
Parkersburg Housing Authority | 1901 Cameron Avenue | Parkersburg | WV | 26101 | 31,113
Housing Authority of the City of Cheyenne | 3304 Sheridan Street | Cheyenne | WY | 82009 | 32,398
Homeownership Supportive Services
City of Phoenix Housing Department | 251 West Washington, 4th Floor | Phoenix | AZ | 85003 | 350,000
The Housing Authority of the City of Madera | 205 North G Street | Madera | CA | 93637 | 250,000
Housing Authority of the City & County of Denver | 777 Grant Street | Denver | CO | 80203 | 500,000
Housing Authority of Bowling Green | P.O. Box 116 | Bowling Green | KY | 42102 | 250,000
City of Concord Housing Department | P.O. Box 308 283 Harold Goodman Circle | Concord | NC | 28026-0308 | 250,000
Keene Housing Authority | 105 Castle Street | Keene | NH | 03431 | 150,759
Municipal Housing Authority of the City of Utica, New York | 509 Second Street | Utica | NY | 13501-2400 | 250,000
Housing Authority of the City of Tulsa | P.O. Box 6369 415 East Independence Street | Tulsa | OK | 74148-0369 | 227,317
North Charleston Housing Authority | 2170 Ashley Phosphate, Suite 700 | North Charleston | SC | 29406 | 250,000
Empowerment 2010, Inc. | 2011 Queen Street | Portsmouth | VA | 23704 | 262,486
Housing Authority of the City of Milwaukee | 809 North Broadway | Milwaukee | WI | 53202 | 350,000
Elderly and Persons with Disabilities Tuscaloosa Housing Authority | 2808 10th Avenue | Tuscaloosa | AL | 35403 | 350,000
Area Housing Authority of the County of Ventura | 1400 W. Hillcrest Drive | Newbury Park | CA | 91320 | 250,000
The Housing Authority of the County of Los Angeles | 2 Coral Circle | Monterey Park | CA | 91755 | 450,000
Housing Authority of the County of Marin | 4020 Civic Center Drive | San Rafael | CA | 94903 | 250,000
Gainesville Housing Authority | 1900 South East 4th Street | Gainesville | FL | 32602 | 349,995
The Housing Authority of the City of Lakeland | 430 Hartsell Avenue | Lakeland | FL | 33815 | 250,000
Housing and Community Development Corporation of Hawaii | 677 Queen Street, Suite 300 | Honolulu | HI | 96813 | 450,000
Kokua Kalihi Valley | 2239 North School Street | Honolulu | HI | 96819 | 375,000
Housing Authority of the City of Rock Island, Illinois | 227 21st Street | Rock Island | IL | 61201 | 249,980
ElderServe, Inc. | 411 East Muhammad Ali Boulevard | Louisville | KY | 40202 | 250,000
Housing Authority of Owensboro | 2161 East 19th Street | Owensboro | KY | 42303 | 125,000
Lowell Housing Authority | Post Office Box 60 350 Moody Street | Lowell | MA | 01853-0060 | 349,809
Hopkins Housing and Redevelopment Authority | 1010 1st Street South | Hopkins | MN | 55343 | 197,804
Kearney Housing Agency | 2715 Avenue I OFC | Kearney | NE | 68847 | 86,642
Lebanon Housing Authority | 31 Romano Circle | West Lebanon | NH | 03784 | 36,641
Housing Authority of the City of Paterson | 60 Van Houten Street | Paterson | NJ | 07505 | 350,000
The Housing Authority of the City of Camden | 1300 Admiral Wilson Boulevard | Camden | NJ | 08102 | 303,659
Truth or Consequences Housing Authority | 108 South Cedar Street | Truth or Consequences | NM | 87901 | 250,000
Housing Authority of the City of Reno | 1525 East 9th Street | Reno | NV | 89512-3012 | 350,000
New Rochelle Municipal Housing Authority | 50 Sickles Avenue | New Rochelle | NY | 10801 | 250,000
Municipal Housing Authority of the City of Utica, New York | 509 Second Street | Utica | NY | 13501 | 140,000
Dayton Metropolitan Housing Authority | Post Office Box 8750 400 Wayne Avenue | Dayton | OH | 45401-8750 | 403,828
Housing Authority of Clackamas County | 13930 South Gain Street | Oregon City | OR | 97045 | 250,000
White Rose Senior Center, Inc. | 27 South Broad Street | York | PA | 17403 | 375,000
The Housing Authority of the City of Greenville, SC | 511 Augusta Street | Greenville | SC | 29605 | 350,000
Town of Crossville Housing Authority | 67 Irwin Avenue | Crossville | TN | 38555 | 150,000
The Housing Authority of the City of Johnson City, TN | P.O. Box 50 900 Pardee Street | Johnson City | TN | 37605-0059 | 350,000
Housing Authority of Salt Lake City | 1776 South West Temple | Salt Lake City | UT | 84115 | 350,000
Roanoke Redevelopment and Housing Authority | 2624 Salem Turnpike, NW | Roanoke | VA | 24017-0359 | 350,000
Burlington Housing Authority | 65 Main Street | Burlington | VT | 05401 | 249,458
Fremont Public Association | 1501 North 45th Street | Seattle | WA | 98103 | 375,000
Housing Authority of the County of Clallam | 2603 South Francis Street | Port Angeles | WA | 98362 | 146,894
Friends of Housing Corporation | 9141 West Lisbon Avenue | Milwaukee | WI | 53222 | 375,000
Resident Service Delivery Models—Family
The Housing Authority of the City of Huntsville, Alabama | Post Office Box 486 200 Washington Street | Huntsville | AL | 35804-0486 | 340,915
City of Phoenix Housing Department | 251 West Washington, 4th Floor | Phoenix | AZ | 85003 | 350,000
Housing Authority City of Los Angeles | 2600 Wilshire Boulevard, Third Floor | Los Angeles | CA | 90057 | 500,000
Area Housing Authority of the County of Ventura | 1400 West Hillcrest Drive | Newbury Park | CA | 91320 | 161,762
The Housing Authority of the County of Los Angeles | 2 Coral Circle | Monterey Park | CA | 91755 | 350,000
San Diego Housing Commission | 1625 Newton Avenue | San Diego | CA | 92113 | 350,000
Housing Authority of the City of Oxnard | 435 South D Street | Oxnard | CA | 93030 | 250,000
Housing Authority of the County of Kern | 601 24th Street | Bakersfield | CA | 93301 | 249,637
Housing Authority of the County of Marin | 4020 Civic Center Drive | San Rafael | CA | 94903 | 250,000
Housing Authority of the County of Merced | 405 U Street | Merced | CA | 95340 | 250,000
Housing Authority of the County of San Bernardino | 715 East Brier Drive | San Bernardino | CA | 92408-2841 | 350,000
Housing Authority of the County of Stanislaus | P.O. Box 581918 1701 Robertson Road | Modesto | CA | 95380-0033 | 250,000
Housing Authority of the City & County of Denver | 777 Grant Street | Denver | CO | 80203 | 500,000
Meriden Housing Authority | 22 Church Street | Meriden | CT | 06451 | 250,000
District of Columbia Housing Authority | 1133 North Capitol Street, Northeast | Washington | DC | 20002 | 500,000
ACORN Institute Inc. | 739 8th Street South East | Washington | DC | 20003 | 362,378
Housing Authority of the City of Tampa | 1514 Union Street | Tampa | FL | 33607 | 350,000
The Housing Authority of the City of Lakeland | 430 Hartsell Avenue | Lakeland | FL | 33815 | 250,000
Northwest Georgia Housing Authority | 800 North Fifth Avenue | Rome | GA | 30162 | 300,000
The Housing Authority, City of Brunswick | P.O. Box 1118 | Brunswick | GA | 31521 | 250,000
Housing Authority of Columbus, Georgia | Post Office Box 630 1000 Wynnton Road | Columbus | GA | 31902 | 350,000
The Housing Authority of the City of Augusta, Georgia | P.O. Box 3245 1435 Walton Way | Augusta | GA | 30914-3246 | 350,000
Chicago Housing Authority | 626 West Jackson | Chicago | IL | 60661 | 999,997
Rowney Corporation | 1401 South Bancroft | Indianapolis | IN | 46203 | 0
Beechwood Gardens Resident Management Corporation | 2952 Priscilla Avenue | Indianapolis | IN | 46218 | 0
Indianapolis Citizens Empowerment Foundation | 3346 Teakwood Drive | Indianapolis | IN | 46227 | 0
Housing Authority of the City of Kokomo, Indiana | P.O. Box 1207 210 East Taylor Street | Kokomo | IN | 46901 | 250,000
The Housing Authority of the City of New Albany, Indiana | P.O. Box 11 500 Scribner Drive | New Albany | IN | 47150 | 349,921
Housing Authority of the City of Evansville | 500 Court Street | Evansville | IN | 47708 | 247,362
Indianapolis Housing Agency | 1919 North Meridian | Indianapolis | IN | 46202-1303 | 350,000
Lawrence-Douglas County Housing Authority | 1600 Haskell Avenue | Lawrence | KS | 66044 | 250,000
Lebanon Housing Authority | 101 Hamilton Heights | Lebanon | KY | 40033 | 250,000
The Housing Authority of Covington | 2300 Madison Avenue | Covington | KY | 41014 | 241,500
Housing Authority of Henderson | 111 South Adams Street | Henderson | KY | 42420 | 245,295
Campbellsville Housing & Redevelopment Authority | 400 Ingram Avenue | Campbellsville | KY | 42718 | 250,000
Boston Housing Authority | 52 Chauncy Street | Boston | MA | 02111 | 500,000
Cambridge Housing Authority | 675 Massachusetts Avenue | Cambridge | MA | 02139 | 350,000
Housing Authority of Baltimore City | 417 East Fayette Street, Room 265 | Baltimore | MD | 21202 | 690,583
Lewiston Housing Authority | 1 College Street | Lewiston | ME | 04240 | 166,169
Grand Rapids Housing Commission | 1420 Fuller Avenue, Southeast | Grand Rapids | MI | 49507 | 250,000
Keweenaw Bay Ojibwa Housing Authority | HC 1, Box 486E | L'Anse | MI | 49946 | 165,913
Housing Authority of St. Louis County | 8865 Natural Bridge Road | St. Louis | MO | 63121 | 250,000
Housing Authority of Kansas City, Missouri | 301 East Armour | Kansas City | MO | 64111 | 349,635
Housing Authority of the City of Columbia, Missouri | 201 Switzler Street | Columbia | MO | 65203 | 250,000
Housing Authority of the City of Biloxi | 330 Benachi Avenue | Biloxi | MS | 39530 | 250,000
Housing Authority of Winston Salem | 500 West Fourth Street, Suite 300 | Winston Salem | NC | 27101 | 250,000
Troy Housing Authority | 408 South Main Street | Troy | NC | 27371 | 150,000
Greensboro Housing Authority | P.O. Box 21287 450 North Church Street | Greensboro | NC | 27420 | 350,000
Gastonia Housing Authority | P.O. Box 2398 340 West Long Avenue | Gastonia | NC | 28053 | 250,000
Housing Authority of the City of Wilmington, N.C. | 1524 South 16th Street | Wilmington | NC | 28451 | 350,000
City of Albuquerque | P.O. Box 1293 | Albuquerque | NM | 87103 | 250,000
Truth or Consequences Housing Authority | 108 Cedar Avenue | Truth or Consequences | NM | 87901 | 250,000
Housing Authority of the City of Reno | 1525 East 9th Street | Reno | NV | 89512-3012 | 250,000
New York City Housing Authority | 250 Broadway | New York | NY | 10007 | 542,042
New Rochelle Municipal Housing Authority | 50 Sickles Avenue | New Rochelle | NY | 10801 | 250,000
New York Agency for Community Affairs | 88 Third Avenue, 3rd Floor | Brooklyn | NY | 11217 | 124,942
Troy Housing Authority | One Eddy's Lane | Troy | NY | 12180 | 349,994
Schenectady Municipal Housing Authority | 375 Broadway | Schenectady | NY | 12305 | 250,000
Municipal Housing Authority of the City of Utica, New York | 509 Second Street | Utica | NY | 13501 | 250,000
Rochester Housing Authority | 675 West Main Street | Rochester | NY | 14611 | 350,000
Albany Housing Authority | 200 South Pearl Street | Albany | NY | 12202-1834 | 350,000
Akron Metropolitan Housing Authority | 100 West Cedar Street | Akron | OH | 44307 | 500,000
Stark Metropolitan Housing Authority | 400 East Tuscarawas Street | Canton | OH | 44702 | 350,000
Dayton Metropolitan Housing Authority | P.O. Box 8750 400 Wayne Avenue | Dayton | OH | 45410 | 350,000
Chillicothe Metropolitan Housing Authority | 178 West Fourth Street | Chillicothe | OH | 45601 | 250,000
Lucas Metropolitan Housing Authority | P.O. Box 477 | Toledo | OH | 43697-0477 | 350,000
Housing Authority of the City of Tulsa | P.O. Box 6369 415 East Independence Street | Tulsa | OK | 74106 | 349,987
Cherokee Nation | P.O. Box 948 | Tahlequah | OK | 74465 | 350,000
Housing Authority of the Choctaw Nation of Oklahoma | P.O. Box G 1005 South 5th | Hugo | OK | 74743 | 350,000
Oklahoma City Housing Authority | 1700 Northeast Fourth Street | Oklahoma City | OK | 73117-3800 | 350,000
Housing Authority of Portland | 135 Southwest Ash Street | Portland | OR | 97204 | 350,000
Housing Authority of the City of Salem | P.O. Box 808 | Salem | OR | 97308-0808 | 250,000
Allegheny County Housing Authority | 625 Stanwix Street, 12th Floor | Pittsburgh | PA | 15222 | 350,000
Housing Authority of the City of Providence | 100 Broad Street | Providence | RI | 02903 | 350,000
The Housing Authority of the City of Spartanburg | 325 South Church Street | Spartanburg | SC | 29306 | 350,000
Shelbyville Housing Authority | P.O. Box 560 316 Templeton Street | Shelbyville | TN | 37160 | 246,121
The Housing Authority of the City of Dallas, Texas (DHA) | 3939 North Hampton Road | Dallas | TX | 75212 | 500,000
Waynesboro Redevelopment and Housing Authority | P.O. Box 1138 1700 New Hope Road | Waynesboro | VA | 22980 | 245,000
Portsmouth Redevelopment and Housing Authority | P.O. Box 1098 801 Water Street | Portsmouth | VA | 23705 | 350,000
Roanoke Redevelopment and Housing Authority | 2624 Salem Turnpike | Roanoke | VA | 24017 | 350,000
Bristol Redevelopment and Housing Authority | 809 Edmond Street | Bristol | VA | 24201 | 250,000
Danville Redevelopment and Housing Authority | 651 Cardinal Place | Danville | VA | 24541 | 250,000
Pleasant View Tenant Association, Inc. | 101 Pleasant View Avenue | Danville | VA | 24541 | 125,000
Newport News Redevelopment & Housing Authority | P.O. Box 797 227 27th Street | Newport News | VA | 23607-0797 | 350,000
Housing Authority of the City of Tacoma | 902 South L Street | Tacoma | WA | 98405 | 350,000
Seattle Housing Authority | P.O. Box 19028 120 Sixth Avenue North | Seattle | WA | 98109-1028 | 343,301
Housing Authority of the City of Vancouver | 2500 Main Street | Vancouver | WA | 98660-2697 | 250,000
Housing Authority of the City of Milwaukee | 809 North Broadway | Milwaukee | WI | 53202 | 350,000
Charleston Housing Authority | 911 Michael Avenue | Charleston | WV | 25312 | 85,000
The Huntington WV Housing Authority | P.O. Box 2183 300 Seventh Avenue West | Huntington | WV | 25722 | 249,999
Neighborhood Networks
Tuscaloosa Housing Authority | P.O. Box 2281 | Tuscaloosa | AL | 35403 | 400,000
The Housing Authority of the City of Huntsville, Alabama | Post Office Box 486 200 Washington Street | Huntsville | AL | 35804-0486 | 199,888
City of Phoenix Housing Department | 251 West Washington, 4th Floor | Phoenix | AZ | 85003 | 400,000
Housing Authority of the City of Los Angeles | 2600 Wilshire Boulevard, Third Floor | Los Angeles | CA | 90057 | 250,000
Housing Authority of the City of Oxnard | 435 South D Street | Oxnard | CA | 93030 | 150,000
Housing Authority of the County of San Bernardino | 715 East Brier Drive | San Bernardino | CA | 92408-2841 | 200,000
Housing Authority of the City of San Buenaventura | 995 Riverside Street | Ventura | CA | 93001-1636 | 150,000
Housing Authority of the City of Oakland | 1619 Harrison Street | Oakland | CA | 94612-3307 | 296,250
Housing Authority of the City & County of Denver | 777 Grant Street | Denver | CO | 80203 | 500,000
The Housing Authority of the City of Norwalk | 24½ Monroe Street | Norwalk | CT | 06856-0508 | 400,000
District of Columbia Housing Authority | 1133 North Capitol Street Northeast | Washington | DC | 20002 | 599,969
The Housing Authority of the City of Lakeland | 430 Hartsell Avenue | Lakeland | FL | 33815 | 300,000
Carrollton Housing Authority | 1 Roop Street | Carrollton | GA | 30117 | 300,000
College Park Housing Authority | 2000 Princeton Avenue | College Park | GA | 30337 | 250,000
Housing Authority of Columbus, Georgia | P.O. Box 630 1000 Wynnton Road | Columbus | GA | 31902-0630 | 400,000
Housing Authority of the City of Rock Island, IL | 227 21st Street | Rock Island | IL | 61201 | 299,117
Lawrence-Douglas County Housing Authority | 1600 Haskell Avenue | Lawrence | KS | 66044 | 150,000
Lebanon Housing Authority | 101 Hamilton Heights | Lebanon | KY | 40033 | 150,000
The Housing Authority of Cynthiana | 148 Federal Street | Cynthiana | KY | 41031 | 150,000
Housing Authority of Martin | P.O. Box 806 109 Raymond Griffith Drive # 1101 | Martin | KY | 41649 | 150,000
Housing Authority of Henderson | 111 South Adams Street | Henderson | KY | 42420 | 146,375
Campbellsville Housing & Redevelopment Authority | 400 Ingram Avenue | Campbellsville | KY | 42718 | 150,000
Housing Authority of Somerset | P.O. Box 449 | Somerset | KY | 42502-0449 | 150,000
Housing Authority of Baltimore | 417 East Fayette Street, Room 265 | Baltimore | MD | 21202 | 594,550
St. Louis Housing Authority | 4100 Lindell Boulevard | St. Louis | MO | 63108 | 250,000
Housing Authority of the City of Independence MO | 210 South Pleasant | Independence | MO | 64050 | 148830
Housing Authority of Kansas City, Missouri | 301 East Armour | Kansas City | MO | 64111 | 193,368
Housing Authority of the City of Columbia, Missouri | 201 Switzler Street | Columbia | MO | 65203 | 300,000
Housing Authority of the City of Biloxi | 330 Benachi Avenue | Biloxi | MS | 39530 | 150,000
Atlantic City Housing Authority | P.O. Box 1258 227 North Vermont Avenue, 17th Floor | Atlantic City | NJ | 08401 | 150,000
New York City Housing Authority | 250 Broadway—11th Floor | New York | NY | 10007 | 600,000
New Rochelle Municipal Housing Authority | 50 Sickles Avenue | New Rochelle | NY | 10801 | 150,000
Municipal Housing Authority of the City of Utica, New York | 509 Second Street | Utica | NY | 13501 | 300,000
Lackawanna Municipal Housing Authority | 135 Odell Street | Lackawanna | NY | 14218 | 300,000
Akron Metropolitan Housing Authority | 100 West Cedar Street | Akron | OH | 44307 | 251,041
Oklahoma City Housing Authority | 1700 Northeast Fourth Street | Oklahoma City | OK | 73117-3800 | 399,974
The Housing Authority of the City of Tulsa | P.O. Box 6369 415 East Independence Street | Tulsa | OK | 74148-0369 | 193,536
Housing Authority of the City of Salem | P.O. Box 808 | Salem | OR | 97308-0808 | 300,000
Housing Authority of the City of York | P.O. Box 1963 31 South Broad Street | York | PA | 17403 | 150,000
Housing Authority of the City of Providence | 100 Broad Street | Providence | RI | 02903 | 250,000
The Housing Authority of the City of Spartanburg | 325 South Church Street | Spartanburg | SC | 29306 | 199,238
North Charleston Housing Authority | 2170 Ashley Phosphate Road, Suite 700 | North Charleston | SC | 29406 | 150,000
Memphis Housing Authority | 700 Adams Avenue | Memphis | TN | 38105 | 409,780
Martin Housing Authority | 134 East Heights Drive | Martin | TN | 38237 | 150,000
Housing Authority of the City of Waco | P.O. Box 978 4400 Cobbs | Waco | TX | 76703-0978 | 399,344
Newport News Redevelopment & Housing Authority | P.O. Box 797 227 27th Street | Newport News | VA | 23607-0797 | 398,050
Burlington Housing Authority | 65 Main Street | Burlington | VT | 05602 | 294,964
King County Housing Authority | 600 Andover Park West | Tukwila | WA | 98188 | 250,000
Housing Authority of the City of Tacoma | 902 South L Street | Tacoma | WA | 98405 | 400,000
Housing Authority of the City of Milwaukee | 809 North Broadway | Milwaukee | WI | 53211 | 410,000
ROSS Homeownership Supportive Services
Housing Authority of the City of Oakland | 1619 Harrison Street | Oakland | CA | 94612-3307 | 500,000
Housing Authority of the County of Cook | 310 South Michigan Avenue—Suite 1500 | Chicago | IL | 60604 | 250,000
Quincy Housing Authority | 80 Clay Street | Quincy | MA | 02170 | 250,000
Housing Authority of the City of Camden | 1300 Admiral Wilson Boulevard | Camden | NJ | 08102 | 350,000
Memphis Housing Authority | 700 Adams Avenue | Memphis | TN | 38105 | 265,009
Danville Redevelopment and Housing Authority | 651 Cardinal Place | Danville | VA | 24541 | 250,000
Housing Authority of the City of Milwaukee | 809 North Broadway | Milwaukee | WI | 53202 | 350,000
ROSS Resident Service Delivery Models—Elderly
Lutheran Social Ministry of the Southwest | 5049 East Broadway Boulevard, Suite 102 | Tuscon | AZ | 85711 | 375,000
Housing Authority of the County of Los Angeles | 2 Coral Circle | Los Angeles | CA | 91755 | 400,000
Housing Authority of the City of New Haven | 360 Orange Street | New Haven | CT | 06511 | 300,000
Meriden Housing Authority | 22 Church Street | New Haven | CT | 06451 | 300,000
Housing and Community Development Corporation of Hawaii | 677 Queen Street, Suite 300 | Honolulu | HI | 96813 | 400,000
Housing Authority of Hopkinsville | P.O. Box 437 400 North Elm Street | Christian | KY | 42241-0437 | 65,000
Housing Authority of Maysville | 600 Clark Street | Mason | KY | 41056 | 200,000
Holyoke Housing Authority | 475 Maple Street | Hampden | MA | 01040 | 300,000
Housing Authority of the City of Camden | 1300 Admiral Wilson Boulevard | Camden | NJ | 08102 | 300,000
Cohoes Housing Authority | 100 Manor Sites | Albany | NY | 12047 | 109,158
Newark Housing Authority | P.O. Box 108 200 Driving Park Circle | Wayne | NY | 14513-0108 | 101,350
Village of Great Neck Housing Authority | 700 Middle Neck Road | Nassau | NY | 11023-1242 | 160,855
Housing Authority of the City of Shawnee, Oklahoma | P.O. Box 3427 601 West 7th Street | Pottawatomie | OK | 74802-3427 | 200,000
Hazleton Housing Authority | 320 West Mine Street | Luzerne | PA | 18201 | 100,000
Housing Authority of Luzerne County | 250 First Avenue | Luzerne | PA | 18704 | 300,000
Friends of Housing Corporation | 9141 West Libson Avenue | Milwaukee | WI | 53222 | 375,000
Resident Service Delivery Models—Family
City of Glendale Community Housing Division | 6842 North 61st Avenue | Glendale | AZ | 85301 | 250,000
City of Tucson | P.O. Box 27210 310 North Commerce Park Loop | Tucson | AZ | 85726-7210 | 350,000
The Housing Authority of the County of Los Angeles | 2 Coral Circle | Monterey Park | CA | 91755 | 350,000
Housing Authority of the County of San Diego | 3989 Ruffin Road | San Diego | CA | 92123 | 250,000
San Diego Housing Commission | 1625 Newton Avenue | San Diego | CA | 92113-1038 | 350,000
Housing Authority of the County of San Bernardino | 715 East Brier Drive | San Bernardino | CA | 92408-2841 | 350,000
Lakewood Housing Authority | 480 South Allison Parkway | Lakewood | CO | 80226 | 150,000
Housing Authority of the City of Pueblo | 1414 North Santa Fe Avenue, 10th Floor | Pueblo | CO | 81008 | 350,000
Housing Authority of the City of New Haven | 360 Orange Street | New Haven | CT | 06511 | 350,000
Housing Authority of the City of Norwalk | 24½ Monroe Street | Norwalk | CT | 06856-0508 | 250,000
Housing Authority of Brevard County | 615 Kurek Court | Merritt Island | FL | 32953 | 249,884
Housing Authority of the City of Fort Myers | 4224 Michigan Avenue | Fort Myers | FL | 33916 | 250,000
The Housing Authority of the City of Bradenton, Florida | 1307 6th Street West | Bradenton | FL | 34205 | 250,000
Fort Pierce Housing Authority | 707 North 7th Street | Fort Pierce | FL | 34950 | 250,000
Housing Authority of the City of Cordele, Georgia | 401 South Tenth Street | Cordele | GA | 31015 | 250,000
Housing Authority of Columbus, Georgia | P.O. Box 630 | Columbus | GA | 31902-0630 | 349,985
Housing Authority of Paducah | 2330 Ohio Street | Paducah | KY | 42003 | 250,000
Housing Authority of the City of Monroe | 300 Harrison Street | Monroe | LA | 71201 | 350,000
Quincy Housing Authority | 80 Clay Street | Quincy | MA | 02170 | 250,000
Housing Authority of the City of Frederick | 209 Madison Street | Frederick | MD | 21701 | 250,000
Housing Authority of the City of Brewer | One Colonial Circle | Brewer | ME | 04412 | 250,000
Presque Isle Housing Authority | 58 Birch Street | Presque Isle | ME | 04769 | 250,000
Housing Authority of St Louis County | 8865 Natural Bridge | Saint Louis | MO | 63121 | 250,000
Town of Chapel Hill Housing Department | 317 Caldwell Street | Chapel Hill | NC | 27516 | 248,240
City of Hickory Public Housing Authority | P.O. Box 2927 | Hickory | NC | 28603 | 250,000
Nashua Housing Authority | 40 East Pearl Street | Nashua | NH | 03060-3462 | 203,330
Housing Authority of the City of Paterson | 60 Van Houten Street | Paterson | NJ | 07505 | 250,000
Housing Authority of the City of Camden | 1300 Admiral Wilson Boulevard | Camden | NJ | 08102 | 350,000
Northern Pueblos Housing Authority | 5 West Gutierrez, Suite 10 | Santa Fe | NM | 87506 | 175,670
Housing Authority of the City of Reno | 1525 East 9th Street | Reno | NV | 89512-3012 | 250,000
Zanesville Metrpolitan Housing Authority | 407 Pershing Road | Zanesville | OH | 43701 | 250,000
Oklahoma City Housing Authority | 1700 Northeast Fourth Street | Oklahoma City | OK | 73117 | 350,000
Housing Authority of the City of Tulsa | P.O. Box 6369 415 East Independence Street | Tulsa | OK | 74148-0369 | 349,841
Housing Authority of Portland | 135 South West Ash Street | Portland | OR | 97204 | 349,993
Housing Authority of the City of York | P.O. Box 1963 31 South Broad Street | York | PA | 17405 | 250,000
London Bridge Child Care Center | 165/145 Duke Street | East Greenwich | RI | 02818 | 125,000
Woonsocket Housing Authority | 679 Social Street | Woonsocket | RI | 02895 | 250,000
Providence Housing Authority | 100 Broad Street | Providence | RI | 02903 | 350,000
The Housing Authority of the City of Dallas, Texas | 3939 North Hampton Road | Dallas | TX | 75212 | 500,000
The Housing Authority of the City of Texarkana, Texas | 1611 North Robison Road | Texarkana | TX | 75501 | 250,000
Housing Authority of the City of Fort Worth | 1201 East 13th Street | Fort Worth | TX | 76102 | 350,000
Housing Authority of the City of Austin (HACA) | 1640 East 2nd Street | Austin | TX | 78702 | 349,379
Housing Authority of the City of El Paso (HACEP) | 5300 Paisano Drive | El Paso | TX | 79905 | 500,000
Temple Housing Authority | P.O. Box 1326 | Temple | TX | 76503-1326 | 85,022
Norfolk Redevelopment and Housing Authority | 201 Granby Street | Norfolk | VA | 23504 | 500,000
City of Roanoke Redevelopment & Housing Authority | 2624 Salem Turnpike, NW | Roanoke | VA | 24017 | 350,000
Danville Redevelopment and Housing Authority | 651 Cardinal Place | Danville | VA | 24541 | 250,000
Pleasant View Tenant Association, Inc. | 101 Pleasant View Avenue | Danville | VA | 24541 | 125,000
YWCA of Seattle-King County-Snohomish County | 1118—Senaca | Seattle | WA | 98101 | 125,000
Housing Authority of the City of Bremerton | P.O. Box 4460 110 Russell Road | Bremerton | WA | 98312 | 250,000
Housing Authority of the County of Clallam | 2603 South Francis Street | Port Angeles | WA | 98362 | 248,532
Kitsap County Consolidated Housing Authority | 9307 Bayshore Drive, Northwest | Silverdale | WA | 98383 | 250,000
Housing Authority of the City of Tacoma | 902 South L. Street | PieTacoma | WA | 98405 | 350,000
Seattle Housing Authority | 120 Sixth Avenue North | Seattle | WA | 98109-1028 | 350,000
Housing Authority of the City of Milwaukee | 809 North Broadway | Milwaukee | WI | 53202 | 350,000

[FR Doc. E8-1454 Filed 1-25-08; 8:45 am]

BILLING CODE 4210-67-P